DEPARTMENT OF COMMERCE

National Oceanic and Atmospheric Administration

RIN 0648-XA577

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council Staff will hold a meeting of the Visioning Project Advisory Panel to discuss communications strategies and data gathering tools for the Visioning Project.

DATES: The meeting will be held on Wednesday, August 3, 2011, from 9 a.m. to 5 p.m.

ADDRESSES: The meeting will be held at the Four Points by Sheraton BWI Airport, 7032 Elm Road, Baltimore, MD 21240; telephone: (410) 859-3300.

Council address: Mid-Atlantic Fishery Management Council, 800 N. State Street, Suite 201, Dover, DE 19901; telephone: (302) 674-2331.

FOR FURTHER INFORMATION CONTACT: Dr. Christopher M. Moore, Executive Director, Mid-Atlantic Fishery Management Council, 800 N. State Street, Suite 201, Dover, DE 19901; telephone: (302) 526-5255.

SUPPLEMENTARY INFORMATION: The purpose of this meeting is for the Visioning Project advisors to provide input on communications and data gathering methods that will be used during the Visioning and Strategic Planning Project. Advisors will provide feedback on the draft survey instrument and will identify specific communications strategies that will help maximize participation in the project. The general objective of the project is to identify stakeholders' views on the management approaches currently used by the Council such that the Council can then use the project's results to develop future management actions.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: July 13, 2011.
Tracey L. Thompson,
Acting Director, Office of Sustainable Fisheries, National Marine Fisheries Service.

[FR Doc. 2011-18028 Filed 7-18-11; 8:45 am]

BILLING CODE 3510-22-P